DEPARTMENT OF COMMERCE

Census Bureau

Agency Information Collection Activities; Submission to the Office of Management and Budget (OMB) for Review and Approval; Comment Request; Certification of Identity (Form BC-300)

AGENCY: Census Bureau, Department of Commerce.

ACTION: Notice of information collection; request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Certification of Identity (Form BC-300) as a Common Form, prior to the submission of the information collection request (ICR) to OMB for approval.

DATES: To ensure consideration, comments regarding this proposed information collection must be received on or before May 17, 2022.

ADDRESSES: Interested persons are invited to submit written comments by email to <census.efoia@census.gov>. Please reference “Certification of Identity (Form BC-300)” in the subject line of your comments. You may also submit comments, identified by Docket Number USBC-2022-0005, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Vernon E. Curry, Chief, Freedom of Information Act/Privacy Act Officer, U.S. Census Bureau, at 301-763-7325, vernon.e.curry@census.gov.

SUPPLEMENTARY INFORMATION:

I. Abstract

The Census Bureau's Freedom of Information Act (FOIA) Office receives an estimated 250 Privacy Act requests annually. In order to protect the public's privacy and adhere to Privacy regulations, the Census Bureau's FOIA Office developed the Certification of Identity (Form BC-300) to assist with accurately identifying and providing personnel records to requesters. The Form BC-300 asks requesters to provide general information such as name, address, date of birth (D.O.B), description of the request, etc. The form provides added protection in managing sensitive records regulated under the Privacy Act. This form will be hosted by the Census Bureau as a Common Form.

II. Method of Collection

The Privacy Act of 1974 (the Privacy Act), as amended, 5 U.S.C. 552a, establishes a code of fair information practices that governs the collection, maintenance, use, and dissemination of information about individuals that is maintained in systems of records by federal agencies. Regulations at 15 CFR part 4, subpart B prescribe how an individual must make a request for access to his or her own personal records to the Census Bureau under the Privacy Act. Generally, one may submit a request for access to his or her own personal records by appearing in person, electronically through the FOIA public website, or by writing to the Census FOIA Office. The regulations require that the requestor describe the records in enough detail to enable Census Bureau personnel to locate the applicable system of records containing the information with a reasonable amount of effort. 15 CFR 4.4(c). A request made under the Privacy Act should include the information listed at 15 CFR 4.24(b), including whenever possible, a description of the records sought, the time periods they were compiled, and the name or identifying number of each system of records where they are kept. Furthermore, requestor must provide documentation or proof of identity. 15 CFR 4.24(d). These documents include information such as the requestor's full name, current address, D.O.B, and place of birth, and where required, a notarized or sworn statement of identity. All Privacy Act requests not made in person must contain a verification of identity that either is notarized or signed under penalty of perjury. 15 CFR 4.24(d). The Census Bureau is prohibited by federal law from disclosing any information contained in the records, except upon written request from the person to whom the information pertains or to a legal representative.

The Form BC-300 is used to collect general information in order to sufficiently identify a respondent to ensure accurate records are provided to the right person as stated in 15 CFR 4.24(d). The Form BC-300 asks for name, address, D.O.B., description of request, and signature, in accordance with 15 CFR 4.24(d). The form explains the purpose and includes the Privacy Act Statement, the disclosure statement, the authorities under which the Census Bureau is authorized to collect the information, and an explanation of burden to the requester. The Form BC-300 is a “public use” form meaning that this form is used for all public and internal agency requests for personal records.

The Form BC-300 is accessible electronically and is printable. The Census Bureau plans to develop the form as a fillable form that can be submitted online to help minimize the requester's processing time for filling out and submitting the form. The Census Bureau will receive all Form BC-300s either electronically submitted through the Census FOIA website, FOIAonline.gov, by fax, or via postal mail. In all circumstances, proper identification of the requestor must be obtained to ensure distribution of accurate records to the correct individuals. Providing this information is voluntary; however, if not provided, the Census Bureau will be unable to provide the requested personal records.

III. Data

OMB Control Number: 0607-1018.

Form Number(s): Form BC-300.

Type of Review: Regular submission, Request for a Revision of a Currently Approved Collection, as a Common Form.

Affected Public: Individuals requesting the release of his or her own records.

Estimated Number of Respondents: 250 (annual respondents).

Estimated Time per Response: 6 minutes.

Estimated Total Annual Burden Hours: 25.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: In accordance with 15 CFR part 4, subpart B, the U.S. Census Bureau requires the submission of sufficient information to identify individuals that submit requests by mail or otherwise not in person under the Privacy Act of 1974, 5 U.S.C. Section 552a.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-05795 Filed 3-17-22; 8:45 am]

BILLING CODE 3510-07-P